COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes service(s) from the Procurement List that were furnished by nonprofit agencies employing persons who are blind or have other severe disabilities.

DATES: Date deleted from the Procurement List: December 29, 2024.

ADDRESSES: Committee for Purchase From People Who Are Blind or Severely Disabled, 355 E Street SW, Suite 325, Washington, DC 20024.

FOR FURTHER INFORMATION CONTACT: For further information or to submit comments contact: Ramon Barreto, Telephone: 703-489-1322, or email CMTEFedReg@AbilityOne.gov.

SUPPLEMENTARY INFORMATION:

Deletions

On October 25, 2024 (89 FR 85174), the Committee for Purchase From People Who Are Blind or Severely Disabled published notice of proposed deletions from the Procurement List. This notice is published pursuant to 41 U.S.C. 8503 (a)(2) and 41 CFR 51-2.3.

After consideration of the relevant matter presented, the Committee has determined that the service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the service(s) to the Government.

3. There are no known regulatory alternatives which would accomplish the objectives of the Javits-Wagner-O'Day Act (41 U.S.C. 8501-8506) in connection with the service(s) deleted from the Procurement List.

End of Certification

Accordingly, the following service(s) are deleted from the Procurement List:

Service(s)

Service Type: Janitorial/Custodial

Mandatory for: USDA, ARS, Avian Disease & Oncology Research Laboratory, 4279 E Mount Hope Road, East Lansing, MI

Authorized Source of Supply: Peckham Vocational Industries, Inc., Lansing, MI

Contracting Activity: AGRICULTURAL RESEARCH SERVICE, USDA ARS

Service Type: Janitorial/Custodial Service

Mandatory for: GSA PBS Region 4, T. G. Abernethy Federal Building, 301 W Commerce Street, Courthouse and Post Office, Aberdeen, MS

Authorized Source of Supply: Alabama Goodwill Industries, Inc., Birmingham, AL

Contracting Activity: PUBLIC BUILDINGS SERVICE, ACQUISITION DIVISION/SERVICES BRANCH

Service Type: Grounds Maintenance

Mandatory for: U.S. Coast Guard, Townsends Inlet Recreational Facility, 8101 Landis Avenue, Sea Isle, NJ

Authorized Source of Supply: Fedcap Rehabilitation Services, Inc., New York, NY

Contracting Activity: U.S. COAST GUARD, TRACEN CAPE MAY(00042)

Service Type: Administrative Service

Mandatory for: U.S. Army Corps of Engineers, Huntsville Engineering and Support Center, 4820 University Square, Huntsville, AL

Authorized Source of Supply: Huntsville Rehabilitation Foundation, Inc., Huntsville, AL

Contracting Activity: DEPT OF THE ARMY, W2V6 USA ENG SPT CTR HUNTSVIL

Michael R. Jurkowski,
Director, Business Operations.

[FR Doc. 2024-28067 Filed 11-27-24; 8:45 am]

BILLING CODE 6353-01-P